DEPARTMENT OF AGRICULTURE

Food and Nutrition Service

Submission for OMB Review; Comment Request

February 5, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 14, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Child Nutrition Program Operations Study II (CN-OPS II).

OMB Control Number: 0584-NEW.

Summary of Collection: The objective of the Child Nutrition Program Operations Study II (CN-OPS II) is to collect timely data on policy, administrative, and operational issues for the Child Nutrition Programs. The ultimate goal of this study is to analyze these data and to provide input for new legislation on Child Nutrition Programs as well as to provide pertinent technical assistance and training to program implementation staff. The CN-OPS II will help the Food and Nutrition Service (FNS) better understand and address current policy issues related to Child Nutrition Programs (CNP) operations. The policy and operational issues include, but are not limited to, the preparation of the program budget, development and implementation of program policy and regulations, and identification of areas for technical assistance and training.

Need and Use of the Information: This study will provide FNS with the data needed for the evaluation of various policy and operational issues related to CNP operations. This study will assist FNS in obtaining general descriptive data on the Child Nutrition program characteristics needed to respond to questions about the nutrition programs in schools; obtaining data related to program administration for designing and revising program regulations, managing resources, and reporting requirements; and in obtaining data related to program operations to help FNS develop and provide training and technical assistance for the School Food Authorities (SFAs) and State Agencies responsible for administering the Child Nutrition programs.

Description of Respondents: State, Local, or Tribal Government.

Number of Respondents: 3,345.

Frequency of Responses: Reporting: Annually.

Total Burden Hours: 3,792.

Ruth Brown,
Departmental Information Collection Clearance Officer.

[FR Doc. 2016-02742 Filed 2-10-16; 8:45 am]

BILLING CODE 3410-30-P